DEPARTMENT OF THE TREASURY

Proposed Collection; Comment Request; Office of Financial Stability

AGENCY: Departmental Offices, Treasury.

ACTION: Notice and request for comments.

SUMMARY: The Department of the Treasury, as part of its continuing effort to reduce paperwork and respondent burden, invites the general public and other Federal agencies to take this opportunity to comment on the following proposed and/or continuing information collections, as required by the Paperwork Reduction Act of 1995, Public Law 104-13 (44 U.S.C. 3506(c)(2)(A)). Currently, the Office of Financial Stability within the Department of Treasury is soliciting comments concerning information collection requirements contained in Title 31 CFR parts 30 and 31.

DATES: Comments must be received one or before October 8, 2013 to be assured of consideration.

ADDRESSES: Direct all written comments to the Department of the Treasury, Departmental Offices, Office of Financial Stability, ATTN: Tracy Rogers, 1500 Pennsylvania Avenue NW., Washington, DC 20220, (202) 927-8868.

FOR FURTHER INFORMATION CONTACT: Requests for additional information or copies of the form(s) and instructions should be directed to the Department of the Treasury, Departmental Offices, OFS, ATTN: Tracy Roger, 1500 Pennsylvania Avenue NW., Washington, DC 20220, (202) 927-8868.

SUPPLEMENTARY INFORMATION: OMB Number: 1505-0209.

Title: TARP Capital Purchase Program—Conflicts of Interest.

Abstract: Authorized under the Emergency Economic Stabilization Act (EESA) of 2008 (Pub. L. 110-343), as amended by the American Recovery and Reinvestment Act (ARRA) of 2009, the Department of the Treasury has implemented aspects of the Troubled Asset Relief Program (TARP) by codifying section 108 of EESA. Title 31 CFR part 31, TARP Conflict of Interest, sets forth the process for reviewing and addressing actual or potential conflicts of interest among any individuals or entities seeking or having a contract or financial agency agreement with the Treasury for services under EESA. The information collection required by this part will be used to evaluate and minimize real and apparent conflicts of interest related to contractual or financial agent agreement services performed under TARP.

Type of Review: Revision due to more accurate reporting of number or respondent to currently approved information collection.

Affected Public: Private sector: Businesses or other for-profits.

Estimated Number of Respondents: 51.

Estimated Number of Annual Responses: 601.

Estimated Total Annual Burden Hours: 4,954.

OMB Number: 1505-0219.

Title: TARP Capital Purchase Program—Executive Compensation.

Abstract: Authorized under the Emergency Economic Stabilization Act (EESA) of 2008 (Pub. L. 110-343), as amended by the American Recovery and Reinvestment Act (ARRA) of 2009, the Department of the Treasury has implemented aspects of the Troubled Asset Relief Program (TARP) by codifying section 111 of EESA. Title 31 CFR part 30, TARP Standards for Compensation Corporate Governance, provides guidance on the executive compensation and corporate governance provision of EESA that apply to entities that receive financial assistance under TARP. The collection of information required by this part will be used to monitor compliance with the executive compensation requirements; monitor and evaluate the compensation practices of TARP recipients and as a basis for determinations on the compensation structures and compensation payments by the Special Master on Executive Compensation.

Type of Review: Revision due to more accurate reporting of number or respondent to currently approved information collection.

Affected Public: Private sector: Businesses or other for-profits.

Estimated Number of Respondents: 250.

Estimated Number of Annual Responses: 1,096.

Estimated Total Annual Burden Hours: 3,482.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: August 6, 2013.
Dawn D. Wolfgang,
Treasury PRA Clearance Officer.

[FR Doc. 2013-19310 Filed 8-8-13; 8:45 am]

BILLING CODE 4810-25-P